FEDERAL COMMUNICATIONS COMMISSION

47 CFR Part 27

[WT Docket No. 99-168, CS Docket No. 98-120, MM Docket No. 00-39]

Service Rules for the 746-764 and 776-794 MHz Bands

AGENCY: Federal Communications Commission.

ACTION: Notice of proposed rulemaking; correction.

SUMMARY: On July 12, 2000, the Commission published in the Federal Register a document which solicited comment on various aspects of the spectrum clearance process for the 746-764 and 776-794 MHz band. In the preamble portion of that document, MM Docket No. 00-39 was inadvertently omitted from the caption identifying the proceeding docket numbers relevant to the decision. This document corrects that omission.

DATES: Effective September 21, 2000.

FOR FURTHER INFORMATION CONTACT: Jane Phillips, 202-418-1310.

SUPPLEMENTARY INFORMATION: The Commission, in the preamble of a Further Notice of Proposed Rulemaking, FR Doc 00-17649, published in the Federal Register of July 12, 2000 (65 FR 42960) neglected to include MM Docket No. 00-39 in the caption listing the docket numbers effected by the action.

In FR Doc 00-17649, published on July 12, 2000, make the following correction. On page 42960, in the first column, in the docket line, add MM Docket No. 00-39.

Federal Communications Commission.

Magalie Roman Salas,
Secretary.

[FR Doc. 00-21346 Filed 9-20-00; 8:45 am]

BILLING CODE 6712-01-P